SECURITIES AND EXCHANGE COMMISSION

[SEC File No. 270-064, OMB Control No. 3235-0067]

Submission for OMB Review; Comment Request: Extension: Form S-11

Upon Written Request Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget this request for extension of the previously approved collection of information discussed below.

Form S-11 (17 CFR 239.18) is the registration statement form used to register securities issued by real estate investment trusts or by issuers whose business is primarily that of acquiring and holding for investment interests in real estate under the Securities Act of 1933 (15 U.S.C. 77a et seq.). The information filed with the Commission permits verification of compliance with securities law requirements and assures public availability and dissemination of such information. Information provided is mandatory. We estimate Form S-11 takes approximately 727.1044776 hours per response and is filed by approximately 67 issuers annually. In addition, we estimate that 25% of the 727.1044776 hours per response (181.7761 hours) is prepared by the issuer for an annual reporting burden of 12,179 hours (181.7761 hours per response × 67 responses).

An agency may conduct or sponsor, and a person is not required to respond to, a collection of information unless it displays a currently valid control number.

The public may view background documentation for this information collection at the following website: www.reginfo.gov. Find this particular information collection by selecting “Currently under 30-day Review—Open for Public Comments” or by using the search function. Written comments and recommendations for the proposed information collection should be sent within 30 days of publication of this notice by August 24, 2022 to (i) www.reginfo.gov/public/do/PRAMain and (ii) David Bottom, Director/Chief Information Officer, Securities and Exchange Commission, c/o John Pezzullo, 100 F Street NE, Washington, DC 20549, or by sending an email to: PRA_Mailbox@sec.gov.

Dated: July 19, 2022.
J. Matthew DeLesDernier,
Deputy Secretary.

[FR Doc. 2022-15784 Filed 7-22-22; 8:45 am]

BILLING CODE 8011-01-P